Executive Order 13252 of January 7, 2002

Exclusions From the Federal Labor-Management Relations Program

By the authority vested in me as President by the Constitution and the laws of the United States of America, including section 7103(b)(1) of title 5, United States Code, and in order to exempt certain subdivisions of the Department of Justice from coverage under the Federal Labor-Management Relations Program, it is hereby ordered as follows:

Section 1. Determinations. The subdivisions of the Department of Justice set forth in section 2 of this order are hereby determined to have as a primary function intelligence, counterintelligence, investigative, or national security work. It is further determined that chapter 71 of title 5, United States Code, cannot be applied to these subdivisions in a manner consistent with national security requirements and considerations.

Sec. 2. Amendment of Executive Order 12171. Executive Order 12171 of November 19, 1979, as amended, is further amended by adding to the end of section 1-209 the following new subsections:

“(c) United States Attorneys' Offices.

(d) Criminal Division.

(e) INTERPOL—U.S. National Central Bureau.

(f) National Drug Intelligence Center.

(g) Office of Intelligence Policy and Review.”

B

THE WHITE HOUSE,

January 7, 2002.

[FR Doc. 02-919

Filed 1-10-02; 8:45 am]

Billing code 3195-01-P